ENVIRONMENTAL PROTECTION AGENCY

40 CFR Part 52

[EPA-R08-OAR-2023-0472; FRL-12252-01-R8]

Air Plan Approval; Montana; Missoula, Montana, Air Rule Revisions

AGENCY: Environmental Protection Agency (EPA).

ACTION: Proposed rule.

SUMMARY: The Environmental Protection Agency (EPA) is proposing to approve a State Implementation Plan (SIP) revision submitted by the State of Montana on January 30, 2024, that incorporates revisions to the Missoula, Montana City-County Air Pollution Control (MCCAPC) program rules into the Montana SIP. The EPA is taking this action pursuant to the Clean Air Act (CAA).

DATES: Written comments must be received on or before October 17, 2024.

ADDRESSES: Submit your comments, identified by Docket ID No. EPA-R08-OAR-2023-0472, to the Federal Rulemaking Portal: https://www.regulations.gov. Follow the online instructions for submitting comments. Once submitted, comments cannot be edited or removed from https://www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www2.epa.gov/dockets/commenting-epa-dockets.

Docket: All documents in the docket are listed in the https://www.regulations.gov index. Although listed in the index, some information is not publicly available, e.g., CBI or other information whose disclosure is restricted by statute. Certain other material, such as copyrighted material, will be publicly available only in hard copy. Publicly available docket materials are available electronically in https://www.regulations.gov. For this action we do not plan to offer hard copy review of the docket. Please email or call the person listed in the FOR FURTHER INFORMATION CONTACT section if you need to make alternative arrangements for access to the docket.

FOR FURTHER INFORMATION CONTACT: Joseph Stein, Air and Radiation Division, EPA, Region 8, Mailcode 8ARD-IO, 1595 Wynkoop Street, Denver, Colorado 80202-1129, telephone number: (303) 312-7078, email address: stein.joseph@epa.gov.

SUPPLEMENTARY INFORMATION: Throughout this document wherever “we,” “us,” or “our” is used, we mean the EPA.

I. Background

On January 30, 2024, the State of Montana submitted proposed revisions to the MCCAPC rules for incorporation into the Montana SIP.¹ The MCCAPC rules address open burning, industrial and household combustors, and other activities that generate particulate matter emissions. The submittal was signed by the governor and went through a 30-day public comment period starting on Thursday, September 7, 2023, and ending on Monday, October 9, 2023.² Montana received no requests for public hearing and all comments received were in favor of the revised MCCACP rules and their incorporation into the Montana SIP. In this action, we are proposing to approve certain revisions and to take no action on certain revisions, as described in greater detail below.

¹ See MDEQ Missoula Submission Receipt—01.30.24 in docket.

² See Montana January 30, 2024, submittal, p. 98.

The EPA has reviewed the revisions to Chapters 1 through 9, and Chapters 13 and 14 of the MCCAPC rules. The bulk of the changes are administrative in nature, including formatting and grammatical corrections, conforming edits to create consistency across the MCCAPC, deletions of extraneous or repetitive content, removal of outdated references to a retired outdoor burn hotline, and similar edits. Additionally, there are several revisions that are substantive in nature, including new definitions for outdoor burning air pollution control technologies, provisions for the use of such control technologies, new limits on outdoor recreational fires, and the extension of wood stove rules to new areas around Missoula, among others. The EPA has determined that both the administrative and substantive revisions are consistent with the requirements of the CAA. These substantive revisions either have no effect on, or further restrict, particulate matter emissions.

The EPA will not be acting on the rules submitted for revision in MCCAPC Chapter 10: Fuels rules 10.102(1), 10.105(1), 10.109(1), 10.110, 10.111, 10.111(2). The EPA is proposing to act on the revisions in Chapter 10 in a separate action.

II. Proposed Action

In this action, the EPA is proposing to approve the revisions to the MCCACP rules submitted by the State of Montana on January 30, 2024, listed below in table 1, Chapters 1 through 9 and Chapters 13 and 14.

In the table below, the key is as follows:

A—Approve.

N—No action.

Table 1—Summary of Revisions to the Missoula City-County Air Pollution Control Program, Proposed for Approval
Revisions to the Missoula City-County Air Pollution Control Program (MCCAPC) ¹: MCCAPC chapter | Revisions to the Missoula City-County Air Pollution Control Program (MCCAPC) ¹: MCCAPC rule(s): description of revision(s) | Revisions to the Missoula City-County Air Pollution Control Program (MCCAPC) ¹: EPA proposal
Chapter 1: Program Authority and Administration | 1.105(5): Grammatical correction | A
Chapter 2: Definitions | 2.101(22): Update hazardous waste definition, consistency with state rule | A
| 2.101(23): Removes Flathead Reservation from Impact Zone M definition (no MCCAC program jurisdiction on Flathead Reservation)
| 2.101(49): Grammatical correction
Chapter 3: Failure to Attain Standards | 3.101: Corrected wording | A
| 3.103: Reference correction
Chapter 4: Missoula County, Air Stagnation and Emergency Episode Avoidance Plan | 4.104(1-4): Formatting and spelling correction 4.108(1): Grammatical correction 4.108(2)(a): Corrected wording | A
| 4.108(2)(d): Rule addition, requires recreational fires to comply with Chapter 7 applicable requirements and restrict fires in certain areas during air alerts
| 4.109(2)(d): Rule addition, requires recreational fires to comply with Chapter 7 applicable requirements and restrict fires in certain areas during air warnings
| 4.109(4): Formatting correction
| 4.113: Grammatical correction
Chapter 5: General Provisions | 5.108(1): MCCAPC board fee change clarification | A
| 5.108(2): Removes extraneous content
| 5.111(1): Adds Montana state requirements for local air program rules into MCCAPC rules
| 5.111(2): Revision to create consistency with rule 5.111(1)
Chapter 6: Standards for Stationary (Industrial) Sources | 6.103(4): Revision allows for up to two, 12-month extensions on air quality permit when construction, installation or alteration was not completed within 36 months of initial issuance of air quality permit | A
| 6.107(1): Punctuation correction
| 6.505(2): Formatting correction
| 6.604: Correction for consistency with state rules
Chapter 7: Outdoor Burning | 7.101(1-13): Renumbering to 7.101(3-15) | A
| 7.101(1): Definition added for air curtain burners
| 7.101(2): Definition added for air curtain destructors
| 7.101(4): Removes references to outdoor burning hotline, department outdoor burning restrictions requirement remains
| 7.101(11): Clarification that recreational fires burning gaseous fuel are not considered outdoor burning
| 7.101(13): Punctuation correction
| 7.102(1): Pronoun correction
| 7.104(1): Removes wildland burning from year-round activities list and updates letters for consistency with the removal of point (a)
| 7.104(4): Clarification and specification when prescribed woodland burning can be done
| 7.104(5): Renumbering
| 7.105(1): Formatting correction
| 7.105(2): Removes redundant language
| 7.105(3): Replaces outdoor burning hotline as departmental mechanism to announce burn restrictions with the departmental website
| 7.106(2)(b): Language update
| 7.107(3)(c): Removes reference to outdoor burn hotline
| 7.107(6): Specifies process major burners may use to conduct wildland outdoor burning, includes requirement for written request to department in winter months
| 7.110(1)(d): Revision allows for outdoor burning of natural vegetation generated offsite to be granted a conditional outdoor burning permit if burning occurs with temporary use of air curtain burner or air curtain destructor
| 7.110(2)(c): Revision allows for exception for conditional outdoor burning permits to be issued inside the air stagnation zone if the burning takes place with an air curtain burner or air curtain destructor
| 7.110(6)(c): Revision specifies that permits issued under rule for natural vegetation burning in air curtain burner or air curtain destructor is valid for up to one year
| 7.116: Rule added to limit recreational fires during air pollution alerts, warnings, emergencies and crises
Chapter 8: Fugitive Particulate | 8.203(3)(b-c): Reference correction | A
| 8.203(3)(e): Removal of an extra word
| 8.208(1): Revision allows health department to approve alternative areas for paving the same size and usage as an area required to be paved by other sections of chapter 8
Chapter 9: Solid Fuel Burning Devices (Wood Burning Stoves) | 9.102(3): Defines `central heater' 9.102(6): Revision changes `EPA method' definition to include all parts of subpart AAA and adds 40 CFR part 60, subpart QQQQ | A
| 9.102(10): Addition of Seeley Lake Wood Stove Zone definition
| 9.102(11): Addition of word `disposal' to solid fuel burning device definition
| 9.102(4-10): Renumbering
| 9.102(12-14): Renumbering
| 9.201(1): Word addition for clarification
| 9.203(1): Addition that wood pellet boilers can be installed in air stagnation zone
| 9.203(2): Spelling correction
| 9.204: Addition of rules that specifies which solid fuel burning devices may be installed in the Seeley Lake Wood Stove Zone
| 9.205: Renumbered rule, updated for consistency with 2015 New Source Performance Standards for wood stoves, does not apply to new solid fuel burning devices installed in the Missoula air stagnation zone and, or the Seeley Lake Wood Stove Zone
| 9.205(4): Edited for clarification
| 9.206-9.212: Renumbering
| 9.207(3): Word addition for clarification
| 9.207(7): Word addition for clarification
| 9.401(3): Update to list of applicable rules
| 9.501(1): Revision requires removal of solid fuels burning devices when property is sold, transferred or conveyed, applies to inherited property and other changes of ownership
| 9.501(2): Revision replaces word `sold' with words `sold, transferred or conveyed', removes grandfathering of class I wood stoves installed between 1986 and 1994
| 9.501(3-8): Deleted, form no longer required when property is sold, transferred or conveyed in the Missoula air stagnation zone
| 9.601: Grammatical correction
Chapter 10: Fuels ² |  | N
Chapter 13: Variances | 13.104: Spelling correction | A
Chapter 14: Enforcement and Administrative Procedures | 14.107(1): Revision specifics 15-day time limit for hearing request of control board if there is a disagreement on administrative conclusion, decision
| 14.107(2): Spelling correction | A
¹ See Montana January 30, 2024, submittal, pp. 145-148 for additional detail on rule revision descriptions.
² The EPA will not be acting on the rules submitted for revision in MCCAPC Chapter 10: Fuels and is proposing to act on revisions in Chapter 10 of the MCCACP rules in a separate action. See Montana January 30, 2024, submittal, pp. 147-148 for additional detail on Chapter 10 rule revision descriptions.

III. Environmental Justice Considerations

This is a proposed action to incorporate revisions to the MCCAPC program rules into the Montana SIP. Due to the nature of the action being taken here, this action is expected to have a neutral to positive impact on the air quality of the affected area. At a minimum, this action will not worsen any existing air quality and is expected to ensure the area is meeting requirements to attain and/or maintain air quality standards. Further, there is no information in the record indicating that this action is expected to have disproportionately high or adverse human health or environmental effects on a particular group of people.

IV. Incorporation by Reference

In this document, the EPA is proposing to include regulatory text in an EPA final rule that includes incorporation by reference. In accordance with requirements of 1 CFR 51.5, the EPA is proposing to incorporate by reference the MCCAPC rules in Montana's January 30, 2024, submission; Chapters 1 through 9 and Chapters 13 and 14 into the Montana SIP, as discussed in sections I. and II. of this preamble. The EPA has made, and will continue to make, these materials generally available through https://www.regulations.gov and at the EPA Region 8 Office (please contact the person identified in the FOR FURTHER INFORMATION CONTACT section of this preamble for more information).

V. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided they meet the criteria of the CAA. Accordingly, this action merely proposes to approve state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

In addition, the SIP is not approved to apply on any Indian reservation land or in any other area where EPA or an Indian Tribe has demonstrated that a Tribe has jurisdiction. In those areas of Indian country, the proposed rule does not have Tribal implications and will not impose substantial direct costs on Tribal governments or preempt Tribal law as specified by Executive Order 13175 (65 FR 67249, November 9, 2000).

Executive Order 12898 (Federal Actions to Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The Montana Department of Environmental Quality did not evaluate environmental justice considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

List of Subjects in 40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Authority: 42 U.S.C. 7401 et seq.

Dated: September 11, 2024.
KC Becker,
Regional Administrator, Region 8.

[FR Doc. 2024-20997 Filed 9-16-24; 8:45 am]

BILLING CODE 6560-50-P